DEPARTMENT OF THE INTERIOR

President's Council on Integrity and Efficiency, Executive Council on Integrity and Efficiency; Senior Executive Service: Performance Review Board Membership

AGENCY: Office of Inspector General, Department of the Interior.

ACTION: Correction.

SUMMARY: The Office of Inspector General, Department of the Interior, published a document in the Federal Register of September 17, 2008, concerning the membership of the Senior Executive Service Performance Review Board for the President's Council on Integrity and Efficiency. We are correcting this document to include references to the Executive Council on Integrity and Efficiency.

DATES: Effective Date: September 17, 2008.

FOR FURTHER INFORMATION CONTACT: Elizabeth Bakken, 703-487-5410.

SUPPLEMENTARY INFORMATION: This correction notice makes only the changes necessary to add references to the Executive Council on Integrity and Efficiency. For readers' convenience, we are reprinting the entire SUPPLEMENTARY INFORMATION text with the corrections. In notice document E8-21660 beginning on page 53900 in the issue of Wednesday, September 17, 2008, make the following corrections:

1. In the document heading, revise agency and document title lines to read as follows:

President's Council on Integrity and Efficiency, Executive Council on Integrity and Efficiency

Senior Executive Service Performance Review Board Membership

2. Correct the SUMMARY section to read as follows:

SUMMARY: This notice sets forth the names and titles of the current Senior Executive Service membership of the President's Council on Integrity and Efficiency (PCIE) and of the Executive Council on Integrity and Efficiency (ECIE) Performance Review Board as of September 11, 2008.

3. Correct the SUPPLEMENTARY INFORMATION section to read as follows:

SUPPLEMENTARY INFORMATION:

I. Background

The Inspector General Act of 1978, as amended, created the Offices of Inspectors General as independent and objective units to conduct and supervise audits and investigations relating to Federal programs and operations. Executive Order 12301 (March 26, 1981) established the President's Council on Integrity and Efficiency (PCIE). On May 11, 1992, Executive Order 12805 reaffirmed the PCIE and also established the Executive Council on Integrity and Efficiency (ECIE). Both councils are interagency committees chaired by the Office of Management and Budget's Deputy Director for Management. Their mission is to coordinate and enhance governmental efforts to promote integrity and efficiency and to detect and prevent fraud, waste, and abuse in Federal programs. The PCIE is comprised principally of Presidentially-appointed Inspectors General (IGs). ECIE members include the Inspectors General appointed by their respective agency heads.

II. PCIE/ECIE Performance Review Board

Under 5 U.S.C. 4314(c)(1)-(5), and in accordance with regulations prescribed by the Office of Personnel Management, each agency is required to establish one or more Senior Executive Service (SES) performance review board(s). The purpose of these boards is to review and evaluate the initial appraisal of a senior executive's performance by the supervisor, along with any recommendations to the appointing authority relative to the performance of the senior executive. The current members of the PCIE/ECIE Review Board, as of September 11, 2008, are as follows:

Thomas R. Moyle,
Deputy Assistant Inspector General for Management, Office of Inspector General, Department of the Interior.

[FR Doc. E8-27334 Filed 11-17-08; 8:45 am]

BILLING CODE 3110- 01-P